DEPARTMENT OF AGRICULTURE

Agricultural Marketing Service

7 CFR Parts 925 and 944

[Docket No. FV03-925-1 PR]

Grapes Grown in a Designated Area of Southeastern California and Imported Table Grapes; Extension of Comment Period on Changing Regulatory Periods

AGENCY: Agricultural Marketing Service, USDA.

ACTION: Reopening and extension of comment period.

SUMMARY: Notice is hereby given that the comment period on proposed changes in the regulatory periods when minimum grade, size, quality, and maturity requirements apply to southeastern California grapes under Marketing Order No. 925 (order), and to imported grapes under the table grape import regulation is extended until November 28, 2005.

DATES: Comments must be received by November 28, 2005.

ADDRESSES: Interested persons are invited to submit written comments concerning this proposal. Comments should be sent to the Docket Clerk, Marketing Order Administration Branch, Fruit and Vegetable Programs, AMS, USDA, 1400 Independence Avenue SW., STOP 0237, Washington, DC 20250-0237; Fax: (202) 720-8938, E-mail: moab.docketclerk@usda.gov, or Internet: http://www.regulations.gov. All comments should reference the docket number and the date and page number of this issue, the May 25, 2005, issue, and the July 25, 2005 issue of the Federal Register and will be available for public inspection in the office of the Docket Clerk during regular business hours, or can be viewed at: http://www.ams.usda.gov/fv/moab.html.

FOR FURTHER INFORMATION CONTACT: California Marketing Field Office, Marketing Order Administration Branch, Fruit and Vegetable Programs, AMS, USDA, 2202 Monterey Street, suite 102B, Fresno, California 93721; Telephone: (559) 487-5901, Fax: (559) 487-5906; or George Kelhart, Marketing Order Administration Branch, Fruit and Vegetable Programs, AMS, USDA, 1400 Independence Avenue SW., STOP 0237, Washington, DC 20250-0237; Telephone: (202) 720-2491, Fax: (202) 720-8938.

Small businesses may request information on complying with this regulation by contacting Jay Guerber, Marketing Order Administration Branch, Fruit and Vegetable Programs, AMS, USDA, 1400 Independence Avenue SW., STOP 0237, Washington, DC 20250-0237; Telephone: (202) 720-2491, Fax: (202) 720-8938, or E-mail: Jay.Guerber@usda.gov.

SUPPLEMENTARY INFORMATION: A proposed rule was issued on May 20, 2005, and published in the Federal Register on May 25, 2005 (70 FR 30001). The proposed rule would change the regulatory periods when the minimum grade, size, quality, and maturity requirements apply to southeastern California grapes under the order and to imported grapes under the table grape import regulation. A notice of extension of comment period was issued July 20, 2005, and published in the Federal Register on July 25, 2005 (70 FR 42513). This document extended the comment period from July 25, 2005, to September 25, 2005.

Another extension was requested on behalf of ASOEX, a trade association of Chilean fruit growers and fresh fruit exporters. In its previous request, ASOEX stated that its members represent approximately 90 percent of Chilean table grape imports to the United States. The extension was requested to provide additional time for interested persons to accumulate and analyze data regarding the proposal and to submit written comments on the proposed rule.

After reviewing the request, USDA is extending the comment period for 60 additional days or until November 28, 2005. This will provide interested persons more time to review the proposed rule, perform a more complete analysis, and submit written comments.

Accordingly, the period in which to file written comments is extended until November 28, 2005. This notice is issued pursuant to the Agricultural Marketing Agreement Act of 1937.

Authority: 7 U.S.C. 601-674.

Dated: September 23, 2005.
Lloyd C. Day,
Administrator, Agricultural Marketing Service.

[FR Doc. 05-19328 Filed 9-23-05; 11:31 am]

BILLING CODE 3410-02-P